DEPARTMENT OF HEALTH AND HUMAN SERVICES

Centers for Disease Control and Prevention

Disease, Disability, and Injury Prevention and Control Special Emphasis Panel (SEP): Initial review

The meeting announced below concerns NIOSH Member Conflict Review, PA 07-318, initial review. These applications are submitted by members of the Safety and Occupational Health Study Section and must be reviewed outside of the regular panel meeting to avoid any conflict of interest.

In accordance with Section 10(a)(2) of the Federal Advisory Committee Act (Pub. L. 92-463), the Centers for Disease Control and Prevention (CDC) announces the aforementioned meeting:

Time And Date: 1:00 p.m.-3:00 p.m., October 28, 2014 (Closed).

Place: Teleconference.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “NIOSH Member Conflict Review, PA 07-318.

Contact Person for More Information: Nina Turner, Ph.D., Scientific Review Officer, 1095 Willowdale Road, Morgantown, WV 26506, Telephone: (304) 285-5976.

The Director, Management Analysis and Services Office, has been delegated the authority to sign Federal Register notices pertaining to announcements of meetings and other committee management activities, for both the Centers for Disease Control and Prevention and the Agency for Toxic Substances and Disease Registry.

Claudette Grant,
Director, Management Analysis and Services Office, Centers for Disease Control and Prevention.

[FR Doc. 2014-21568 Filed 9-9-14; 8:45 am]

BILLING CODE 4163-18-P